DEPARTMENT OF THE TREASURY

Internal Revenue Service

Quarterly Publication of Individuals, Who Have Chosen To Expatriate

AGENCY: Internal Revenue Service (IRS), Treasury.

ACTION: Notice.

SUMMARY: This notice is provided in accordance with IRC section 6039G of the Health Insurance Portability and Accountability Act (HIPAA) of 1996, as amended. This listing contains the name of each individual losing United States citizenship (within the meaning of section 877(a) or 877A) with respect to whom the Secretary received information during the quarter ending September 30, 2024. For purposes of this listing, long-term residents, as defined in section 877(e)(2), are treated as if they were citizens of the United States who lost citizenship.

SUPPLEMENTARY INFORMATION:

Last name | First name | Middle name/initials
AASEN | ERIK | PHARR
ABBOT | BARBARA | ANNE
ABE | NAOMI
ABE | MASAMICHI
ABOU SAAB | SAMI
ABRAM | MARY | JACQUELINE
ABRAM | DARRYL | WAYNE
ABRAMS | MARGARET | LOUISA
ACHMANN | BRITTA
ACKERMAN | JEFFREY | M
ADAMS | RICHARD | GLENN
ADAMSON | SARA | ELIZABETH
ADAMSON | SHELLEY | LYNNE
ADAMYK | FRANCOISE | MARTHE
ADELMAN | IRENA | JOY
ADENLOF | EMELIE | ELIZABETH
ADRIANOPOULOS | ANDREW
AEBISCHER | STEVEN | WALTER MARCEL
AESCHLIMANN | FRANCESKA
AGAR | SOPHIE | ELIZABETH
AGNELLO | ROSANNE
AHN | MICHAEL
AHN | RACHAEL | SEYUN
AIELLO | ANTONY | NICOLAS
AL HUMOOD | MALIK | MOHAMMED
ALBERT | CORISANDE | CHARLOTTE
ALBERTS | NICOLE | MARY
ALBOKAE | NATAN
ALEXANDER | AIYANA
ALIOTH | REMI | ANTOINE
ALLEN | BRIAN
ALLEN | PATRICIA | JEAN
ALLEN | WILLIAM | MONTGOMERY
ALLISON | CYNTHIA | WILLIAMS
ALPERN | STEPHANE | NATHAN
ALTNEU | DANIEL | JAMES
ALTSTOCK | KASEY | M
AMICK | BENJAMIN | CARLISLE
AMMETER | FRANK | RICHARD
AN | KYUNGMIN | MIN
ANDERSEN | JACLYN | CHRISTINE
ANDERSEN | TADD | JONATHAN
ANDERSON | MICHAEL | FREDERICK
ANDERSON | VALERIE | JENNIE KARLINSKY
ANDERSON | BRUCE | FRULAND
ANDERSON | STEVEN | STANFORD
ANDREAS | KATHARINA | SOPHIE
ANDREAS | BERND | ALWIN
ANKESHIAN | ARA | HOVANES
ANTONIOLI | JANA | A
AOYAGI | NAOKO
AOYAGI | YASUO
AOYAGI | FUMI
APPLEGARTH | JANE | MARGARET
APPLETON | JEFFREY | TODD
ARAN EROL | IPEK | ZEYNEP
ARIGA | HANA
ARIMA | KAZUMASA
ARNOLD | CORINNA | MARIA
ARNSTEIN | AHARON | DANIAL
AROCHO | RAUL
ARONEY | STEPHANIE | LOUISE
ASAO | KEIKO
ATCHARIYAWIRIYA | ALISA
ATSUCHI | SATOSHI
ATTIOGBE | DOROTHEA | SEPOPO
AUBRET | FRANCOIS | MAURICE ETIENNE
AUER | MELANIE | NICOLE
AUFGANG | BARBARA | BENJAMIN
AUGRAND | LUCIE | CAROLINA OLIVIA
AUGRAND | SAMANTHA E | EMILY DINWIDDLIE
AULESTIA | IKER
AVALOS | FERNANDO | HUGO
AVERY | NATALIE | M
AYRES | PHILIP | DAVID
AYVAZIAN | ELISABETH
BACHMAN | WILLIAM | DAVID
BACHMANN | MIRNA | MURIEL
BACK | BRIAN | A
BADDIRI | BARCILIN | TAPSIRIL
BAI | GENG
BAIDA | YAEL
BAILEY | BILL | HENRY
BAILEY | CYNTHIA | MARIE
BAIRD | DONNA | JANE
BAJUELOS DOMINGUEZ | ANTONIO | LESLIE
BAKER | CAROLYN
BALL | CARRIE | LOU
BALLERSCHEFF | ULRIKE
BALLET | PHILIPPE | JEAN
BALLINGER | MARTIME | MARIE
BANNISTER | CECIL | H
BAPTISTA | ADRIANO | AUDO-GIANOTTI
BARBER | KATHERINE | JANE
BARDAS | ANNA
BARELA | HANAKO | KAWABE
BARNARD | JIMMY | SHAUN
BARNES | BRIAN | PRESTON
BARNES | JONATHAN | IAN
BARNES | JACQUELINE
BARNES | GERALDINE | MAE
BARR | GLENN | DOUGLAS
BARR | DANIEL | WILLIAM
BARRY | JENNIFER | SEARS
BARTH | GAIL | ELIZABETH
BARTON | DAVID | STEVEN
BASHUTSKI | JILL | DAWN
BASSAL | ALANA | DANIELLE
BASSAL | LORI | BETH
BASSAL | DAVID | JONATHAN
BASSANO | HEIDI | ANTOINETTE
BASTAMI | SOHAILA | SAHAR
BATES | PAULA | JANE
BATEY | MARK
BAUER | STEPHANIE | ANN
BAUMGARTNER | NICOLE | KIM
BAUTISTA CONEJERO | MARINA | LUISA
BAWAZIR | HASHEM | ABDULAH
BAYLEY | DEREK | MOLINEUX
BEALS | KATHRYN | ELIZABETH
BEARFIELD | GEORGE | JOSEPH
BEAUMONT | JACQUELINE
BEEVOR | MARK | ANDREW
BEHRSTOCK | JEREMY
BEIGEL | CLAUDE | YVES
BELL | JUNKO | YAMADA
BELL | EDWIN | JAMES
BELL | PATRICIA | JEAN
BELL | DONALD | JAMES
BELL | DEBBIE | GAYE
BELL | CHARLOTTE | E
BELL | JOANNE | ELIZABETH
BELLAMY | KATHARINA
BELLAVITI | SAMUEL | EMMANUEL
BELLO | ALICE | ALMA CELINE
BENDER | DOROTHEA | EVA MARIA EM
BENNETT | ELEANOR | KATHLEN
BENNIS | ALEXANDRA | FAYE
BENNY | DIANE | MARIE
BERGAN | MARIE | S
BERGERON | NOEMIE | CASSIOPE REGINE BESSETTE
BERGIN | LOUISE | GENEVIEVE
BERGMAN | DAVID | MARCUS
BERKE | STEVE
BERNSTEIN | DAVID | M
BERRIS | DANIEL | JOHN
BERRY | LINDSAY | ANN
BERRY | SUSAN | EMILY
BERTIN | GEOFFREY | ROBERT
BERTIN | TERRY | LEE
BESINS | DAVID | ALEXIS THIERRY PAUL
BEWSHER CAMPBELL | PENELOPE | IBOLYKA
BHARWANI | LAVINA | DEVIDAS
BIET | SAMANTHA | MARIE SOLON
BIJON | DUBRAVKA | MATIC
BINGLEY | WILLIE | JUNIOR
BIRD | TERRY | H
BIRGY | JEAN | EUDES GERALD
BIRKENBERG | BEATRICE | ANNE ROSE
BISTANY | KATHRYN | THERESE
BITTING | NATHAN | SCOTT
BIZEK | MARK
BLACK | JOSEPH | ANDREW
BLACK | DIANA | MARGARET SUSAN
BLACKLAWS | CAROL | TODD
BLAKNEY | CATHRYN | DORION COLETT
BLANKENSHIP | BRENDA | LYNN
BLOW | STEPHEN | CHARLES
BLYTH | GEORGINA | RUTH
BOBOWSKI | NAULA | KATHERINE
BOGOIEVSKI | KARLOS | JOSEPH
BOGOIEVSKI | KOSTA | ROBERT
BOLT | ANETT
BOND | CAMERON | MARSHALL
BONIN | STACY | NOEL
BONNETT | ANDREA | MARGOT
BONNETT | STEWART | ANTHONY
BORLE | ALAIN | GERALD
BORM | HEATHER | LYNN
BOSCARIOL | KIMBERLY | MARIE SMITH
BOSSHARDT | CHRISTOPHER | MARTIN
BOTTEQUIN | EZRA | AVRAHAM
BOUDREAU | NANCY | CHRISTINE
BOURQUE | RONALD | JOSEPH
BOWREY | WILLIAM | JOSEPH
BOYCE | LAURA | JOAN
BOYD | NEIL | THOMAS
BOYLE | GRAEME | WILLIAM
BOYLES | KATHERINE | ELIZABETH
BRADLEY | AGNES
BRANCH | PATRICK | JOHN
BRAND | CATHY | LYNN
BRANDHORST | BRUCE | PETER
BRANDT | JANET | LYNN
BRASH | RUTH | MARGARET
BRASSEUR | CHRISTINE | HODGE
BRAZILLE | JEREMY | CLINT
BREEZE | CATHLEEN | MARY
BREHON | JILL | WOODROFFE
BRENDON | CAMILA | HELEN
BRENDON | RICHARD | EDGAR
BRETT | DEREK | BENJAMIN
BREUER | RAPHAEL
BRICCHI | IGNACIO
BRIDGES | MARK | P
BRIEMBERG | HANNAH
BRIKMAN | HADAR
BRINKERHOFF | BENJAMIN | LOUIS
BRINKERHOFF | ELISSA | J
BRINKERHOFF | TANYA
BRINSMEAD | CAROL | KIMBERLY
BROILLET | JOEL
BROMLEY | LAURA | KIRSTEN
BROUGHTON | JOANNE
BROUGHTON | SEAN | WILLIAM
BROUX | JEREMY | FRANCOIS BERNARD
BROWN | ELIOT | SALANOY
BROWN | MATTHEW | JAMES
BROWN | SEBASTIAN | WILLIAM GEORGE
BROWN | MICHAEL | CHARLES
BROWN | TINA | L
BROWN | COLIN | CHARLES
BROWN | MICHELLE | ANDREE
BROWNE | KATHARINE | NAOMI WHITFIELD
BRUCE | SUSAN
BRYAN | DANIEL | NEIL
BRYERS | DOREEN | MABLE
BSCHIERL | FRANK | RUDI
BUCHANAN-SLOVITT | AMANDA | J
BUCK | AKIKO
BUFFINGTON | CORAL | MAY
BUFFINGTON | JOHN | FRANCIS
BUHLER | LUKAS | SAMUEL
BULL | ROBERT | JOHN
BULLIS | DAVID | CURTIS
BURKE | SUSAN | ANNE
BURKE | EMILY | MEGHAN
BURKE | DANIEL | THOMAS
BURLA | ALICE
BURNAY | MARIE | BERENICE JULIE
BURNETT | RACHEL | HELENA
BURTON | KATARINA
BURTON | KATHARINE | JILL ZOE
BUSBY | CHIE
BUSCH | BARBARA | ANN
BUSH | HIROKO | MACHAMA
BUTLER | DARRYL | LEONARD
BUTLER | MEGAN | JENNIE
BUTTON | DIANE | COLLEEN
BUX | IQBAI | YAKUB
CABRA | MYRIAM | LUCIA
CADWALLADER | HANNAH | P
CADY | DEBORAH | O'LEARY
CALDWELL | MARVA | MUIR
CALLAN | PAMELA | KAY
CALLISON | JAMIE | CHRISTOPHER
CALLISON | JAMES | DANIEL
CAMERON | VICTORIA | LOUISE
CAMERON | ADRIAN | JAMES MCIVER
CAMPAIGNOLLE | MARGOT | SOPHIE
CAMPBELL | JULIA | MARIE
CAMPBELL | JOAN
CAMPBELL | MADELEINE | LOUISE
CANNING | SINEAD | EIMIR
CANOVAS-BARROSO | RODRIGO | ANTONIO
CANSANI | MARTINO
CANTRELL | CLINTON | JAMES
CAP | LINDA | LEE
CAPEL-BIRD | CLEMENCY | GEORGIA
CARNER | BENJAMIN | RYAN
CARNER | AVA | RENEE
CARNER | BEAU | PATRICK
CAROTA | LINDA
CARR | SEAN | RILEY
CARROLL | SEAN | FRANCIS
CARTER | KANAE | KASHII
CARTER | FRANCESCA | SKYE
CARUSS | ALEXANDRA | ROSE
CASBAS-HERNANDEZ | PATRICIA
CASHMAN | JAMES | PATRICK
CASSELLIS | LOGAN | LEE
CASTELLA | HARRY | OLIVER
CASTRO | SAMUEL | ELEAZAR
CAULFIELD | TIMOTHY | ALLEN
CAULFIELD | DAVID | CASE
CAVAGNARO | TIMOTHY | RICHARD
CAVALIER | CATHERINE | DOROTHY
CAVANAGH | JUSTINE
CERENZLA | SANDRA | JEANNE
CERNA | DAVID | MICHAEL
CHAIKEN | LAURIE | SYMA
CHALLANDER | CHAMPION | SHENG JIE OSCAR
CHAN | MARY | YEE MUN
CHAN | TERENCE | PUI HIN
CHANG | WAKAM
CHANG | MING-JANG
CHANN | VEASNA
CHAPPELL | REBECCA | ELIZABETH
CHARBONNEAU | LOUISE | MARIE JEANNE
CHARLTON | ALAN | STEPHEN
CHARLTON | GRACE | MARY
CHARNOCK | CATHERINE | RUTH
CHARPENTIER | CEDRIC | JEAN JACQUES
CHARPENTIER | ELSA | MEGANE
CHARTIER | JOFFREY | W
CHATELAIN | ANDREE | RENEE
CHAUDHARY | VIJAY | LAXMI
CHAUDHARY | ANOOP | LAL
CHEHAB | CHRISTIAN | NAJI
CHEHAB | AVIS | DIANE
CHELESKI | CARL | ALEXANDER
CHEN | JUI | YI
CHEN | KUANG | JUNG
CHEN | WEI
CHEN | MIAN
CHENG | XINGYUN
CHENG | HO | FUNG G
CHERN | CHINN | RONG
CHEUNG | DAMIEN | CHING NOK
CHEUNG | VERONICA | YI KI
CHEW | CHIAT | NAUN
CHIANG | TE | CHENG
CHIN | FONG | LIN L
CHISHIMA | YOSHIKI
CHO | ILLHEE
CHOW | SUSAN | DANNEKER
CHOWDHARY | GEETA
CHRISTIE | COURTNEY | KATHLEEN
CHRISTLEY | PHILIPPA | ANNE JAYNE
CHUA | EVONNE | LAI PING
CHUNG | KANG | SUP
CLAFLIN | MATTHEW | GILES
CLAGHORN | PETER | WHITNEY
CLARK | AKANE | Y
CLARK | ANNALIE | RACHEL
CLARK | ANNE | MARIE
CLARK | PADDI | EVA
CLARK | GREGORY | SIMON
CLARKE | PREMA
CLARKE | DEMETRA | DARSAKLIS
CLARKE | CLARE | ALEV
CLARKE | AUGUSTA | ELFRIDA
CLARKE | MIA | LAUREN
CLIFFORD | BRADFORD | JOHN
CLISE | ERIN | BREWSTER
CLOUTIER | MYRIAM
COATES | DAVID | JEROME
COCKROFT | GARY | ANTHONY
CODACCI-PISANELLI | COSIMO | PIO
COGHLIN-NEWMAN | LAUREL | JUANITA
COLAMARTINI | LAUREN | MICHELLE
COLAUTTI | JOANNE | MARIE
COLE | KIM | SUSAN
COLE | CLEA | ALEXANDRIA
COLLI | MAGALI | HUGUETTE LYDIE
COLLI | GREGOIRE | GUY JEAN CLAUDE
COLLIER | HAL | MECORNACK
COLLINS | BRIAN | STEWART
COLLINS | LAURIE | ADAIR
COLLINS | ASHLEY | READ
COLLINS | SARAH | JANE
COLLIS | JONATHON | AARON
COMEAU | CHRISTOPHER | JOHN
CONDON | KENT | P
CONGI | VANESSA | LOUISE
COOK | LUISA | JUNE NOEL
COPISAROW | RICHARD | MAURICE
COPLEY | NICHOLAS | PAUL
CORBETT | PHILIP | DAVID
CORDIER TRICARICO | CAROLINE | ANNE CHRISTINE
CORDOVA | JORGE | ENRIQUE
CORETTI | MONICA
CORMAGGI | SALVATORE
CORMAGGI | ANTHONY
CORMIER | DANIEL | PAUL
CORNELL | ROSEMARY | BETH
CORNU-THENARD | MAXIME | GEORGE
CORREIA | NUNO | FILIPE
COTTON | EMMA | JANE
COYLE | JAMIE | KATHERINE
COYLE | RYAN | D
CRAIG | DONALD | HAMILTON
CRAIG-GREEN | ROSEMARY | ANN
CRAMPTON | ROBERT | ARDEN
CRANE | MATTHEW | JOSEPH
CRAVEN-WILKINSON | JOCELYN | MARTHA
CRAWLEY | SUZANNE | CHRISTINE
CRAWLEY | PETER | L
CRONIN | MARI
CROOK | JAMES | STEVEN
CUELLAR | YANIRA | GUADALUPE
CUNNINGHAM | CHRISTINE | MARY
CUNNINGHAM | ANDRE
CURRY | MARY | RANDOLPH LEWIS
CUSACK | ELMA
CZERWINSKA | JOANNA | BEATA
DABABNEH | BARHAM | TALAL
DACEY | JOHN | FRANCIS
DAHM | JACOBIA | VERENA
DALAL | MERWAN | TOUFIC
DALTON | PETER | ROBERT
DALTROP | OLIVER
DALY | DIANA | JEAN
DANTCHEVA | HRISTINA | IVANOVA
DARKE | JONATHAN | SIMON
DARNBOROUGH | MARIE | LOUISE
DASKAS | NIKOLAOS
DAVAGE | LAURA | MARKS
DAVIES | JOHN
DAVILA | SANAE | SHINAMURA
DAVIS | DAVID | RONALD
DAVIS | GREGORY | ALEXANDER
DAVIS | HELEN | LESLIE
DAWES | MARTHA | GAIL
DAY | CAROLINE | M
DAZO | HERBERT | FRANCESCUS
DE DONNO | CHIARA
DE JONG | JAN
DE LEO | MARCO | DOMINIK
DE RUITER | ADRIAAN | JAN
DE WIT | TIM | MATTHEUS
DEARING | KEVIN | TODD
DEBANE | XAVIER | GEORGE
DEGEL | FLORENTINA | EVA MARIA
DEGENSZEJN | ELIZABETH | EUGENIA
DELANEY | SUZNNE | MARGARET
DEMAREST | HALANA | MICHELE
DEME | BRANDON | C
DENNY | MARY | LOUISE
DEPORTER | JOELLEN | KELLY
DEPORTER | CRAIG | DONALD
DERKSEN | LOUISE | CHRISTINE GABRIELL
DERKSEN | TODD | MYLES
DESSOULAVY | ERIC | GEORGE
DEVLIN | EDMUND | JAMES
DEVOS | PIETER | CHRISTIAAN H.C.
DEWI | RUBY | EKA
DEY | DONALD | WILLIAM
DEY | JACQUELINE | THELMA
DHILLON | AMOLAK | SINGH
DICK | LORRAE | ALEXANDRA
DICKS | CAROLYN | KESSLER
DICKSON | ALEXANDRA | JANE
DICKSON | ANDREA | ELLEN
DIETRICH | DANIEL | EDWARD
DIGREGOR | SAMUEL | RALPH
DIGWEED | JENNIFER | LYNNE
DILIBERTO | JAMES | DANIEL
DILL | MICHA | LUKAS
DIMITROPOULOS-VASILIADES | SOPHIA | ANASTASIA
DIN | NEENA
DIRSCHERL | JENNIFER | MARIE
DIXON | MANAMI
DIXON | CHARLES | DWIGHT
DOBBYN | GERARD | PETER
DOBELL | DARCEY | JEAN
DOBLER | KATJA
DOBSON | ROSA | MAY
DOBSON | DANIEL | NATHAN
DOMENJOZ | MOLLY | KATHLEEN
DOMINOWSKI | WLODZIMIERZ | ALEKSANDER
DONALDSON | ROBERT | GLENDON
DONALDSON | IAIN
DONCASTER | PAMELA | JEAN
DONZELLI | YUKI
DOOHAN | SUSAN | ELIZABETH
DORIN | NARDA
DOROSH | MARY | NICOLA
DOSCHER | SUSAN | KATHERINE
DOSEK | JIRI
DOSHI | JAPAN | SHAILESH
DOSHI | SHATADHA | JAPAN
DOSKOVA | HANA
DOTSON | JOSEPH | PETER
DOU | HONG
DOUGLAS | BRUCE | GEORGE
DOWELL | JEFFREY | THOMAS
DOWNEY | SUSAN | LYNNE
DU | YUE
DU | YU
DUBOIS | THOMAS
DUERR | ZACHARY | JOHN
DUFF | ALLAN | EDWARD
DUFFY | SEAN | MICHAEL
DUFFY | KATYA | RUTH
DUNCAN | SCOTT | ANDREW
DUNKLE | JUSTIN | JOSEPH
DURRANT | ALEXANDER | LOY
DYCUS | SEAN | TIMOTHY
DYSON | SAMUEL | LEWIS
EASTEAL | PATRICIA | LYNN
EATON | SHANE | MICHAEL
EBINGER | RAPHAEL | THOMAS
EBISAWA | CHIYOKO
EBISAWA | JUNICHI
EDEL | ANITA
EDWARDS | NICHOLAS | JOHN
EGERTON | MANYA | IVANNE
EGGLER | LENA | MARIE
EICHLER | BIANCA
EIFFLER | JANEK
EIJMAEL | MARIE | JOSEE SOPHIE JEANN
EJIMA | HIDEMORI
EL MANAWY | ADAM | HISHAM
ELLIOTT | SUSAN | GALE
ELLIS | AARON | LEE
ELLIS | KATHLEEN | SHARP
ELLISON | LUCAS | ANDREW
ELMORE | ALISON | JANE
ELTERMAN | ROSY
ENGELBERTINK | ROBIN | GARY
ENGI | PASCAL | DANIEL
ENGI | PHILIP | DAVID
ENNIS | RICHARD | CONNING
ENOKIDO | TAKESHI
EROL | TUGRA
ESHLEMAN | CHARLOTTE | FAYE
ESPLIN | DEBORAH
ESQUINCA | DANIELA | SOFIA
ESSER | JESSICA | ANN
ESSIG | SARAH | DIANA
EVANS | GWYNETH | SIAN
EVANS | KRISTEN | L
EVANS-COLES | SUZANNE | STACEY
EWENS | JUDITH | ROSALIND
EWERS | BELINDA | ELIZABETH
EWERT | JORDAN | BAILEY
EWERT | BRAYDEN | CONNOR
FANG | MAOSEN
FARDON | PAUL | A
FARMER | SANDY | ELLEN
FARNSWORTH | JULIE
FAROOQI | NAVAID | EJAZ
FARR | TIMOTHY | R
FARRIS | AMANDA | HOPE
FAULKNER | NATALIE | MARIE JARED
FAWDRY | RACHEL | ANN
FEDER | LARA | ESTRELLA
FEDUN | MICHAEL | JOHN
FEIST | BAERBEL
FEIST | PETER | GUENTER
FELLING | ANDREA | JANE
FENG | JING
FENTON | KAREN | ANN DELORES
FERGUSON | KAREN | ANN
FERN | ALISON | MARGARET
FERN | STEPHEN | JAMES
FERRANTE | COLLEEN | MARIE
FERRIS | DOUGLAS | LANCE
FERRISS | SARAH | ELIZABETH
FILAN | ERIN | LOUISE
FINDLAY | TOMOKO | T
FINLAY | ROSEMARY | DALE
FINLAYSON | GRAHAM | CAMPBELL
FINNEGAN | NUALA | LAVERTY
FIRST | COLLEEN | JOY
FISCHER | MARC | DANIEL
FISHER | CURTIS | WAYNE
FITZGERALD | ROBERT | NORBOURNE
FITZGERALD CLARK | DIANE | C
FITZROY | JILL | ELIZABETH
FLEMING | DEVON | BRYCE
FLEMMING | MICHELLE | ANN
FLETCHER | MARK | R
FLORES ALARCON | GABRIEL
FLOUTY | CLAUDINE | F
FLOYD | GREGORY | DANE
FOLEY | JESSIE | BAXTER
FONG | JUN | KIAT LIONEL
FORD | DENZIL | LEE DAWN
FORD | JEREMY
FORGET | ROBERT
FORTE | AMELIA | ANN
FORTE | RALPH | CARL
FOSTER | WENDY | LOUISE
FOSTER | PAMELA | DIANE
FOSTER | JILL | LEANNE
FRANCHINO | NICKOLAS | MICHAEL MARTIN
FRANK | DANIEL | BENNETT
FRANK | ANDREW | JOSEPH SCHAHINGER
FRANK | ELIZABETH | MARY
FRANK | DAVID | IAN
FRANK | KATE | LIBBEY FOOTE
FRANKEN | NERISSA
FRASER | GARY | CHRISTOPHER
FREI-STOCKER | ANDREA | BEATRIZ
FRENCH | MARISA | ASTRID
FRENCH | MILES | ALEXANDER
FRIEDRICH | LINA
FRIEND | NICOLA | C
FRIZENSCHAF | YANN | M
FRUMAU | VANESSA | LORAINE
FRYBERGER | KEIKO
FRYER | MARGARET | TRACY
FUCHS | FREDERIQUE | MARGARETHA
FUENZALIDA | CHRISTINE | DENISE
FUJIMURA
FUJITA | RIE
FUKUMORI | KAORI
GADDE | NEELIMA
GAETTELIN | SUSAN | KATRIN
GAFFAR | LINDA | MARIE
GAILITS | NICOLA | SUZANNE STUKEL
GALANEK | SOFIA | ISABELLA
GALLAGHER | BETTY | JEAN
GALLARDO-GODOY | ALEJANDRA
GALTS | NANCY | AMELIA
GAMBLE | THOMAS | ETIENNE
GAME | DAVID | ANTHONY
GAN | SUZANNE | KAM
GANCAS | KAREN | LOUISE
GANDHI | KAVI | SANJIV
GAO | TINGJUAN
GAO | BO
GARCIA | MARIA | DEL MAR
GARCIA WICKETT | RAUSHANA | ALENE
GASTON | MARIA | VALERIE
GATEHOUSE | MARK | WILLIAM FRANCIS
GAULAND | AIDAN | THOMAS
GAULIN | JANE | NICOLE
GAUVIN | LUCIA | VARGAS
GAVIGAN | BARTHOLOMEW | JAMES
GAY | MAX | HANS-PETER
GAYOU | NANCY | LEE
GEBRIL | GABRIEL | MOHAMED
GEIGER | RONALD | ALAN
GEIGER | KATHLEEN | DIANA
GEIGER | ERIC | RONALD
GELLERT | JULIE | ANNE
GENDRON | FRANCOIS
GENZO | ISABELLA | CATALANOTTO
GEORGE | CARLISLE | ELDWIDGE
GEORGE | ALEXANDER
GERRETS | RENE | PIERRE
GIBSON | JOANNA | MARIANNE
GILL | THOMAS | WILLIAM
GINSBURG | ALEXANDER
GIOBRAN | LEANNE | MAREE
GIULIANY | BARBARA | ELIZABETH
GLADWELL | HILARY | JANE
GLAZA | SANN | RENEE
GLENCROSS | CARL | C
GLESSING | NATHAL | GERALD
GLOBER | EWAN | ALEXANDER MCLEAN
GOBLE | KATHRYN | ANN
GOCK | ROSEANNE | JOYCE
GODDARD | CAMERON | ROSS
GODSCHALK | HELEN | GRACE
GOEDE | MONIQUE | S
GOEDEL | NICOLE | ELVIERA
GOETTI | ROBERT | PAUL
GOETZ-HENDRICKSON | KERSTIN | ELIZABETH
GOLAY | LATA
GOLDBERG | JESSICA | ROSE
GOLDSMID | HENRY
GOLLIN | RACHEL | HESTER
GONZAGA COSTA | LUIZ | CARLOS
GONZALES | MARISELA
GORDON | MARY | ELLEN
GORDON | JOYCE | KAREN
GORDON | ISABEL | VOELKER
GORSKI | THADDEUS | ANTHONY
GOSSELIN | XAVIER
GOUGE | ANDREW | PAUL
GRACIA | LUIS
GRAD | KATHARINA | GRAD
GRAHAM | BRENT | LEE
GRANT | ROSEMARY | CLARA ISOBEL
GRANT | SHELAINE | M
GRAY | STEPHANIE | EDITH
GREDLER | JENNIFER
GREEN | MCHELLE | RENEE
GREEN | MICHAEL
GREENE | MARGARETHE | LEE
GREENSMITH | CHRISTOPHE | MICHEL
GREER | ANDREW | REID
GREET | NICHOLAS | MARK
GREGGERSEN | ERIC
GREGORY | SCOTT | WALKER
GREGORY | ESTHER | CHARLOTTE
GREGORY | COLIN
GREGORY | EVA |
GREIG | KEVIN | ROBERTSON
GREY | ALEXANDER | DOUGLAS
GREY | JONATHAN | WILLIAM
GRIFFITH | LISA | ANNE
GRIGSBY | PAULINA | VIRGINIA PHUONG
GRIMSRUD | JUDITH | LORRAINE
GROBLER | CLINTON | GUY
GROVES | SAMUEL | CARDER
GUAN | JENNIFER
GUDEWILL | SALLY | MARIE
GUENKEL | ANNA | LENA
GUENTHER | THOR | ROMAN
GUILLARD | FRANCINE | I
GUIZADO MORALES | ANA | VICTORIA
GUJAR-GUGGI | LUCY | YOLANDA
GULER | HULYA
GULLI | GIORGIO
GUNN | JULIE | ANNE
GUNN | CAMPBELL | DAVID
GUNNING | JOHANNES | HERANUS
GUNOLD | AILEEN | ANNA BARBARA
GUO | XIAO
GUPTA | KRITIKA
GUPTA | KAVEEN
GUTCHER | JAMES | ROBERT
GUTCHER | AMANDA | MAY
GUTIERREZ | EDGAR | JOSE
GUTIERREZ | ANA | SOFIA
HA | JOO | HYUN
HABY | JANETTE | BERNADETTE
HAGELBERG | ERIKA
HAGEMEISTER | JAMES | ROSS
HAHN | CHARLES | WILLIAM
HALBE | KEVIN | DAVID
HALE | HELEN | MARY
HALL | DONALD | GARDNER
HALPINE | MARY | EILEEN
HAMMER | REBECCA | ANN
HAMPTON | JOEL | LLOYD
HAN | MANHO
HAN | SANG | CHUL
HANAKAWA | TAKESHI
HANER | SIMEON | THOMAS
HANNA | MARY | ELIZABETH
HANNEY | STEVEN | ALEXANDER
HANSELL | DEBORAH | JANE
HARDY | DYLAN | K
HARE | DARCY
HARE MCCLURE | LAURA MARY | ELIZABETH
HARPER | KATHLEEN | MARGARET
HARPER | CHARLOTTE | ANNA
HARRIGAN | RYAN | DANIEL
HARRINGTON | ERIN | JEAN
HARRINGTON JOHNSON | HEIDI
HARRIS | I | HIAM AP
HARRIS | SHELLEY | ANNE
HARRIS | JANYCE | JO
HARRISON | ELISA | ALESSANDRA LAVINIA
HARTMANN | PATRICK | DAVID
HARTNETT | JUSTINE | ANNE CAROLINE
HAUBER | PETER | EMMANUEL
HAVERCROFT | CALLISTO | PAULETTE
HAWKESWORTH | JOSHUA | PETER TAPPER
HAWKINS | MICHELE | NADINE THERESE
HAYAKAWA | EMIKO
HAYES | CHRISTINE | ISABEL
HAYNES | JOHN | STEPHEN
HAYS | PAUL | WALTER
HE | XIAOWEN
HEASMAN | CLAIRE
HEASMAN | PAUL | DAVID
HEATH | WILLIAM | ALEXANDER
HEATON | NICHOLAS | JAMES
HEDENQUIST | JEFFREY | WAYNE
HEDINGER | LARISSA | MARISA
HEIDBREDER | ROBERT | KENT
HEIDECKE | SARA
HEIDUSCHKA | SIGRID | ANNA
HEIGL | ANDREAS | FRANZ
HEINRICH | AMY | ASAKO
HEINTZ | GRETTA | RUTH
HEINTZE | MIRJAM
HENG | SOKKEANG
HENGPOONTHANA | KEITH
HENGST | MARKOS | SOLOMON
HENRY | ISOBEL | LOUISE
HEPPELMANN | CYNTHIA | ROSE
HEPWORTH | JOHN | RAYMOND
HERNANDEZ | NANCY
HERTEL | MICHAEL | EDWARD
HEUMANN | HEINZ | PETER
HIERONYMI | PHILIPP | CHRISTIAN KARL
HIERONYMI | KADRIYE
HILL CLISE | MADELEINE
HILLERICH | COOPER | FRANK ELMO
HINRICHS | MARIE | ELIZABETH
HIRAYAMA | KOUKI | JOSEPH
HIROSE | KIMIKO
HIROSE | TOSHIYUKI
HOARE | LEONARD | JOHN
HODGSON | TINA | GWENDOLYNNE
HOEKSTRA | KATINKA | WAIOLI
HOFFMAN | RACHEL
HOFFMANN | BURGHARDT | DOUGLAS
HOGAN | RYAN | JAMES KINGSMILL
HOLDENMEYER | MICHAEL | JOHN CLAUDE
HOLTEN | SASKIA | JANE POLLY
HOMBERG | CARIN | SOPHIA
HOMEWOOD | JENNIFER | LAUREN
HOMPO | YUMIKO
HONG | RICHARD | JUNGWOO
HOPE | CAMERON | DOUGLAS
HOPE | NORA | HATTON
HORI | MASAYASU
HORIKOSHI | KINYA
HORIKOSHI | TOMOKO
HORINEK | ROBERT | EHRETH
HORN | RAINER | MORITZ THEODOR
HORNFELD | HOWARD | L
HORNSBY | JOANNE | SARAH
HORTON | BENJAMIN | PETER
HOSHI | TAKEO
HOSOKAWA | SUSUMU
HOU | PEI | LING
HOU | DARREN
HOURELD | MARY | THERESA
HOUSWORTH | CARLINE | LAVERA
HOWDEN | SAM | SAM
HOWE | SUSAN | JOYCE
HOWELL | ELIZABETH | CARMEN
HOWSAM | JESSICA | KATE
HSIA | HUGNCHIU
HSIL | STEPHANNE
HU | SHU | JUNG
HU | SEAN | HSIANG JUNG
HUANG | LING | LING
HUBER | JEFFREY | WAYNE
HUBER | SUZANNE | MARGARETE
HUBER | FRANCK | AUGUSTE
HUDZ | ERIC | ANTHONY
HUGHES | LAURA | DOROTHY
HUGHES | FAITH | ELIZABETH
HUHARDEAUX | ODILE
HULINSKY | IVAN
HULL | MARALEE | EVELYN
HUMPHREY | PATRICIA | ANN
HUMPHREY | BARRY | JAMES
HUNTER | SALLY | PATRICIA
HURIHANGANUI-POWERS | CARRIE | LYNN
HUTCHINGS | DAVID | GEORGE
HYATT | JAMES | OWEN
IFF | RETO | ROBERT
IGARASHI | MIKI
IHARA | MASASHI
IMAO | FUMIKO
IMAO | SHIGEYA
INABA | YASUKO
INMAN | BRANT | ALLEN
ITAKURA | YUKIKO
ITO | RYOKO
IVANOV | IVAN | DRAGOMIROV
IWASAKI | HIDETAKA
IZUSHIMA | HISAE
IZUSHIMA | MASAAKI
JABER | BRENDA | GAIL
JACKSON | KELSEY | MEGAN
JACKSON | ROGER | ANDREW
JACOBSON | JEFFERY | BENJAMIN
JACOBSON | JEREMY | MORRIS
JAKUBCZYK | KRYSZTOF | JAROSLAW
JALILI | ROZITA
JAMEYSON | KAREN | ANN
JANG | SUK | WOON
JANSSON | WENDY | LOUISE
JANZEN | KYLA | CARRIE
JARED | JOHN | MATTHEW
JEFFERSON | OLIVER | LAWRENCE
JEFFREY | MATTHEW | IAN
JEFFREY | MARIANNE | GAY
JENKINS | JAMES | PATRICK
JENSEN | DANIEL | ROSENGARTEN
JENSEN | HANNAH | ROSENGARTEN
JENSEN | JONATHAN | ROSENGARTEN
JHANGIANI | JAIDEEP | DEEPAK
JIANG | FANG
JITSUMOTO | TAKAHIRO
JOFRE | MICHELLE | CHARLOTTE JULIA
JOHN | REGINE | SUSANNE
JOHN | CLAIRE | ALEXANDRA
JOHNSEN | ANDREW | STEPHEN
JOHNSON | CAROLYN | ANNE
JOHNSON | ANNIKA | CHRISTINA
JOHNSON | KRISTEN | KATHLEEN
JOHNSON | MIRIAM | LENA
JOHNSON | RACHEL | EDA
JOHNSTON | DAVID | JOSEPH
JOHNSTON | SCOTT
JOLLER | MARTINA
JOMA | RONALD | ALEX
JONES | THOMAS | JUSTIN
JORGE | ANNE | ESTELLE FINNIGAN
JULMY | JESSICA | CHRISTIE
JUMONJI | MOTOKO
JUNG | HAE | SUK
JUSTICE | ROBERT | JAMES ALEXANDER
KABRA | VIKAS | KUMAR
KADOWAKI | SHIRO
KADOWAKI | SHOKO
KAJI | FUMIO
KAJI | SACHIKO
KALESNIKOFF | JANET | LEANNE
KALIS | ALEXANDER | G
KALUGEROVICH | PERO
KAMINOH | MIDORI
KAMMAN | SVEN
KANEKO | TOYOHISA
KANETO | YASUKO
KANG | SUN | JA
KANG | WON | KYUNG
KAPUR | USHA
KARGER | CHRISTIAN | PETER
KARIM | FAHIM | ALHUSSEIN
KARITA | KEIZABURO
KARITA | JUNKO
KARLEN | DONNA | MARIE
KASHIMURA MATHIS | HIROKO
KATORI | HIROKO
KATZ | SAMSON | ROBERT
KATZ | DEBORAH | ROBIN
KAUFMANN | ADELAIDE | STEFANIE
KAVATHAS | CHRISTOS
KAWAHARA | YUKIKO
KAWAKAMI RAYNAUD | ERIKO
KAWAMOTO | TOKUO
KAWAMOTO | KUMIKO
KAZAMA | AKIRA
KAZAMA | SUMIE
KEALL | PATRICIA | LEE
KEARNEY | OLIVER | PATRICK TIMOTHY
KEARNEY | MARK | FRANCIS
KECK | JONAS | CARL
KELLY | VIRGINIA | MARY
KELPE | NICOLAS | CHARLES
KEMEL | MAKSIM
KENNEALLY | MATHEW | J
KENNEDY | KATE | LOUISE
KENNEDY | JENNIFER | YUST TWEEDALE
KENNEDY | GRETCHEN | S
KENNEDY | BLAKE | DANIEL
KEOGH | CLODAGH | ANN
KESALA | ALEX | RAYMOND
KHANGURE | SIMON | RUPE
KIDO | KATSUHIRO
KIKUCHI | SAIKO
KILPATRICK | GRIFFIN | ALEXANDER
KIM | MIN | JUNG
KINGSBURY | DAN | MCKEE
KINGSTON | CHARLES | MCGREGOR
KIPMAN | ALEX | ABEN-ATHAR
KIRKWOOD | PAMELA | JANE
KIST | JEFFERSON | BARRETT
KITAOKA | NATSUNE
KITCHEN-DUNN | FREDERICK | SIMON
KJESBU | JOACHIM | SEBASTIAN
KLASEN | ROLAND | MARNIX THEODOOR
KLAUS | SABINE | KATHARINA
KLEINER | JOHANNES
KLEMENT | MARKUS
KLEMENT | SUSANNE | CHRISTINA
KLEP | JEROEN | SEAN
KLINGHED | JESPER | KLAS
KLOSS | GIDEON
KNAPP | SARAH
KNIGHTON | CHARLOTTE | ALICE
KNOOP | MAURITS | MAX
KODA | CHIZUKO | KODA
KOH | CHIN | KIONG
KOHNSTAMM | JUSTIN | MICHAEL
KOL-BAR | MYRIAM
KOL-BAR | JONATHAN
KOLBAS | EUGENIA | VERONICA
KOMORI | HIROFUMI
KOO | YOUNG | IM
KOOPMANS | ELISA | NOELLE
KOREJKO | JONATHAN | DAVID
KORNEYCHUCK | ELENA | A
KORTENAAR | PAUL
KOSAKA | YOUNG | J
KOSHIMIYA | TERUYO
KOSTER | SCOTT | JOSEPH
KOTEGAWA | HIDEKAZU
KOULIE | CHRISTIAN | OLIVIER
KOYL | MARY | LEE
KRAMER | CHRISTIAN | ALEX
KRATTIGER | FRANCESCO | SACHA ANTOINE
KRAUS | BARBARA | ERIKA
KREINDLER | LISA | SHARON
KREISBERG | DOMINIK | CHRISTOPHER
KROSKA | SHARON | KAY
KTONAS | PERIKLIS | YIANNIS
KUBLUN | IRENE
KUCZMA | RICHARD | PAUL
KUEHNBAUM | KATHRYN | ANN
KUENG | SEBASTIAN | BERNARD
KUHNE | ADRIEN | ALEXANDRE
KUIJPERS | EVERT | P
KULBASHIAN | HUNTER | ALEXAN
KUMILEWA DOMINOWSKA | BOTKA
KUMORI | KAZUYOSHI
KUMORI | KAZUKO
KUPPA | RAMGOPAL
KUWABARA | KEIKO
KUWABARA | NOBUYUKI
KWON | EVA | M
KWON | BYEONG | JUN
LA FLEUR | DAVID | CHARLES
LACANLALE | SHINOBU | MATSUMOTO
LACY | MARY | PAIGE
LAFLECHE | MURIELLE | THERESE
LAING | JENNIFER | ANN
LAIRD | SALLY | ANN
LAJOIE | REMY | RAMSEY
LAM | NIN | KIN
LAMBERT | IAIN | BAKER
LAMEYER | MICHIYO | MORITA
LANDRY | DONNA | DARLENE
LANSTROP | CHRISOTPHER | HOSTRUP
LARAMIE | CALE | JAMES
LARDEAU | JEREMY | OLIVIER LUC
LARRIEU | DANIELLE | EMMA
LASANCE | TODD | JAMES
LASCELLES | CHARLOTTE | SIERRA
LATOUR | ANDRE | ROGER
LATRY | MARY | KUNDE
LAU | ANDREW | HENRY
LAURENCE | DAVID | CH
LAURENS | MATHIEU | LOUIS KEVIN
LAVIGNE | ROBERTA | B
LAVYAD | KEREN | CHAYA SHIFRA
LAWER | TESSA | ELIZABETH
LAXTON | KATE | ANNE
LE | TRI | MINH
LE | NHAT | MINH
LE | CUONG | HUNG
LEA | JOHN | ALEXANDER
LEAMAN | CATHERINE | ELLEN
LEANG | HY
LEBAIL | KARINE | NA
LEBRETON | DENIS | SEBASTIEN
LEE | JUNGHEE
LEE | HYO | CHI
LEE | AI | LING
LEE | MENG | CHANG
LEE | BUM | JU
LEE | KIT | WING SIMON
LEE | CHANG | HO
LEE | YOUNGJUN
LEE | JU | YOUNG
LEE | JORDAN | MARGARET-ANN
LEE | SYLVIA
LEE | HEE | JEAN
LEE | CHRISTINE | MARIE
LEE | RACHEL | MARIE
LEE | JAN | JIARONG
LEE | AMY | YUKYUNG
LEETZOW | JENNIFER | MAE
LEGG | JASON | J
LEGG | LAURA | IRENE
LEHET | NANCY | JEAN
LEIBIK | RUTH | ANN
LEICHT | KIMBERLY | HELEN
LEICHTWEIS | STEVEN | BOYD
LEIJDEKKER | JURGEN | PIETER
LENTI | MARGARET | MARY
LESTED | CHRISTOPHER | ALBERT
LESTED | CHRISTINE | MOCKLI
LESTED | BARBARA | ALLISON
LETCHER | LOIS | ILENE
LEVENSON | FRANCES
LEVETT | CHRISTIAN | JAMES ROBERT
LEVIE | JOHN | EDWARD
LEWELLEN | STEPHANIE | RENAE
LEWIS | NIGEL | ALAN
LEWIS | AMY | CHRISTINE
LEWIS | KAREN
LHIM | YU | SEOUN
LI | ZHENXIAN
LI | BINGSI
LI | JAN | YUANXIN
LI | CALVIN | PEI JUN
LIAO | RICHARD | CHIH WEI
LICHTENBERG | TAMMY | DARSHANA
LIEBERHERR | EVA | KATHARINA
LIGUORI | JOSEPH | PAT
LILLY | ALAN | DOUGLAS
LIM | HYE | KYUNG
LIN | ANDY | YU CHIEN
LINCOLN | STEVEN | JOHN
LINDEN | PATRICIA
LINDER | PATRICIA | SAMANTHA
LIU | AN
LIU | JIA
LIU | YUANSHEN
LLOYD | SPENCER | MICHAEL
LOCH | LESLIE
LOGAN | DELLA | RUTH
LOGAN | CHRISTINE | ANNE-MARIE
LOH | JONATHAN | KWUEN NIN
LOLLI-GHETTI | MICHAEL | THOMAS
LONGMAN | REBECCA | SUZANNE
LONGMAN | TERENCE | ALFRED
LONSETH | ERIKA | JANE
LOOFT | DORIS
LOS | NICHOLAS | CONSTANTINE
LOUDON | PETER | THOMAS
LOUGHEED | DIANE | ROSE
LOVELL | STEFANIE | JEAN MARIE
LOWE | ANDREA
LOWE | ELIZABETH | CEINWEN
LOWENSTEIN | MAX | DANIEL PERICLES
LOWENSTEIN | JOSEPH | AARON SOCRATES
LU | YU | YING
LU | CHRISTINE | YI JU
LU | JIANHUA
LUCID | JACK | MICHAEL
LUFT | HERBERT | SEBASTIAN
LUKEFAHR | HOWARD | GARRELT
LUKIANENKO | OLEKSII
LUO | YUAN
LUO | QIPENG
LUOMANEN | LARS | AKE
LUZ | GREGORY | MANUEL
LUZZI | AMELIA | BENEDETTA
LYLE | SCOTT | EDWARD
LYON | JENNIFER | ROSE
LYONS | DARCIE | CLARK
LYONS | JACQUELINE
MA | HANHUI
MAAG-PELZ | JENNIFER | RENEE
MAC CLURE | MAGDALENA | LYON
MACADAM | JAMIE | LEA
MACDONALD | ALLAN | SEAN
MACDONALD | ELIZABETH | DEVINE
MACHIDA | FUMIHIKO
MACHIDA | NORIKO
MACHIN | ADAM | JAMES
MACHIN | JOANNE | ELIZABETH
MACHIN | DONNA | TERESA
MACKAY | PAULA | KATHLEEN
MACKENZIE | KELLY | ANNE
MACKINGA | NIKO | TORGIN
MACMILLAN | DONNA | KAY
MACRAE | LAUREN | MARIE
MAEDA | NOBUHIRO
MAEDA | SHIORI
MAINVIL | JOANNE | LOUISE
MAITA | NOBUAKI
MAITA | HIDEHIRO
MAK | MAN | YAN JOYCE
MAKINO | KOJI
MAKINO | JUNKO
MANGEOT | MARIE | ANTOINETTE S
MANN | KAREN | JANE
MANN | HARRY | GEORGE
MANNA | MARK | ROBERT
MANNHEIMER | ELIAS | THEODOR AHLSTROM
MANSFIELD | MARGUERITE | AGNES COLE
MARANTZ | MONICA | JANE
MARCUSON | ELIZABETH | CAROL
MARDUKHI | JIAN
MARIDAL | JAN | HAVARD
MARINIS | CONSTANTINE
MARKHAM | MARIA | LAUREEN
MARRIOTT | DION | JAMES
MARRIOTT | ROBIN | RALPH
MARSTON | ANGELA
MARTIN | SARAH | GWEN
MARTIN | LAURA | MARIE
MARTS | VANESSA | MAE
MASAKI | KAZUNARI
MASKENS | HORTENSE | ANNICK
MASSEY | FLOR | R
MASTERSON | STEPHEN | JAMES
MASTRO | BRENTON | EDWARD
MATHIS | CHRISTIAN | ANDREAS
MATSGARD | MELANIE | LOUISE
MATSGARD | JOHAN | ERIC WILHELM
MATSU | MARIAN | ANITA
MATSU | EDDIE | TATSUO
MATSUDA | RITSUKO
MATSUDA | KAYOKO
MATSUDA | TAKASHI
MATSUMOTO | CHIYOKO
MATSUO | SACHIKO
MATTHEWS | STEPHEN | SILLAR
MATTISON | DANIEL | ARTHUR LESLIE
MATTS | GEORGE FREDERICK | WAGER
MAUELL | CHRISTIAN | HERRMANN
MAY | LUKAS | EDMUND
MAYER | WENDY | ELIZABETH
MAZER | GLENN
MCAULEY | SHARON | DOROTHY
MCCANN | SAYAKA | KIDA
MCCARTEN | ISABEL | D
MCCARTHY | PAUL
MCCARTHY | DEBRA | LOUISE
MCCARTHY | SEAN | MICHAEL
MCCLURE | KEITH | ANDREW
MCCONNELL | THEODORE | ALBERT ANIL
MCCORMICK | JOAN | MARIE
MCCULLOCH | ANDREW | WILLIAM
MCDANNELS | ANDREW | PAT
MCDONALD | EVE | CAROLYN
MCDONALD | LINDSAY | JEAN
MCGLADE | MARK
MCGRATH | ELIZABETH | FRANCES
MCKIMM | JOAN | MARIE
MCLAUGHLIN | DANIELLE | LEROUX
MCLAUGHLIN | CHRISTOPHER | VIVIAN
MCLEAN | GRAEME | WALLACE
MCMULLEN | BRIAN | TIMOTHY
MCNEVAN | SCOTT | GORDON
MCNICHOL | DEBRA | LYNNE
MCVICAR | MICHELE | FRANCES
MEACHAM | DAVID | GEORGE
MEADE-KING | KATHERINE | ELIZABETH LYELL
MEESSCHAERT | VALERIE | MARGARET
MEI | JING
MEIER | ALEXANDER | NICOLAS
MEISSNER | NIKOLAOS | ALEXANDER
MELNICK | BURTON | ALAN
MEMARI | ALIREZA
MENEGALDO | ELENA
MENON | KUSUM
MENON | ANNE | JOLEEN
MENON | RAVI | SHANKAR
MENZIES | ELLEN | FRANCES
MERIEAU | LINDA | LEE
MESAGNO | CHRISTOPHER
METAXOGLOU | KONSTANTINOS
METCALF-HEPPELL | ASHLEY | MARIE
MEULEMAN | ANDRIES | THOMAS
MEYER | JEREMY
MEYER | DEAN | JON
MICHAELS | ANNA | ELIZABETH
MICHALLIK | NICOL | ANGELA
MICHAUD | PHILIDA | JOY
MIDDLETON | MAURICE | EMERSON
MILES | PHILIP
MILLAR | GEORGE | ALBERT LESLIE
MILLER | BRETT | DANIEL
MILLER | MICHELLE | IRENE
MILLER | ELIZABETH | LOUISE
MILLER | JASON | SAMUEL
MILLER | JULIA | ANNA
MILLS | ROBERT | ARTHUR
MILMAN | CHARLOTTE | MARIE
MILNE | DANETTE | DONA
MILNE | DUSTIN | W
MIMICK | KRISTIN | CLAUDIA
MINAMI | TOMOE
MINOWA | KEIKO
MINOWA | SHINJI
MINTO | ANGELA | MARY
MINTO | PATRICK | WILLIAM
MISTELY | ANNIKA
MITSCH PERIN | CHRISTINE | HILDE
MITTENDORFER | CLAUDIUS
MIWA | TATSUMI
MIZUTANI | RYOSUKE
MIZUTANI | HIROMI
MODARD | PHILIPPE | JACQUES ARTHUR
MOERITZ | FREDERICK | SIGMUND HANS
MOLDER | SARAH | DAWN
MOLLER | MARIE | FORUM
MOLLER | HANS | FORUM
MONROE- GONIN | JESSICA | IRENE
MONTEITH | BARBARA | MARLENE
MONTGOMERY | SARAH | JANE
MOON | LAURA | SUSAN
MOORE | SHONA | MARIE
MORAES-EDWARDS | MELISSA
MOREAU | ANTOINE | JEAN LOUIS
MORGAN | DANIEL | JOHN JEGOR
MORIOKA | NOBUYUKI
MORIOKA | ARISA
MORIYA | MASAAKI
MORIYA | FUMIE
MORKOS | ANTHONY | CHARBEL
MORRIS | FIONA | JANE
MORRIS | JOHN | HILL
MOSCHYTZ-LEDGLEY | MIRIAM | EVE MICHELLE
MOSES | BRYAN | LINDSAY
MOUNTAIN | ELFRIEDA
MOY DE VITRY | JONATHAN | ANSEL
MOYA | JAVIER | ALONSO
MUELLER | PETER | ALOIS
MUELLER | ALFRED | CHRISTOPHER
MUI | JANICE | WAI-YING
MULLER | KATHRIN | A
MULLER | MATHIAS | WILLIAM MORITZ
MULLER | VERONICA | SUSANNE
MULLER | BARBARA | EDITH
MULLIGAN | SIGRUN | ALICE
MULLIGAN | JAMES | BYRON
MUMBLAT | ALEX | DAVID
MUNDADA | RASIKA | ASHISHKUMAR
MUNRO | GREGORY | PAUL
MURATA | KIYOTOSHI
MURAYAMA | MASAKATSU
MURGA | ANNA | DANIELLA
MURGA DORION | JUAN | CARLOS
MURNANE | MICHAEL | XAVIER
MUROYAMA | YUKI
MURPHY | LAURA | JANE
MURPHY | JOSEPH | PATRICK
MURPHY | MICHAEL | DENNIS
MURPHY | COLUM | FINBAR
MURPHY | JAMES | EDWARD
MURPHY | SANDRA | LOU
MURRAY | ANGELA | CHRISTINE
MURRAY | STEPHEN | DOUGLAS
MURRAY | CARA | JANINE GILMORE
MURRAY | CRAIG | MASON GILMORE
MURRAY | CHRISTOPHER | ARTHUR HUGH
MURRAY | JULIANA | ELIZABETH
MUSSLER | JACOB | EUGENE
MYLES | DONAL | DESMOND
NADERHIRN | MICHAEL
NAGAMATSU | YOKO
NAGASHIMA | HAJIME
NAGATA | RISA
NAGEL | CHRISTOPHER
NAKAGAWA | FUMI
NAKAMURA | TOMOE | N
NAKAYAMA | NAOMI
NAM | KI | PUNG
NAMTVEDT | ALICE | SCHJOTT
NANTAU | JACOB | M
NATTIER | CHRISTIANE
NEEDHAM | CHRISTOPHER | JOHN
NEIL | LUCAS | JONATHAN
NELSON | ANDREW | PETER
NELSON | AILSA
NEMETI | MARC
NENDISSA | JUDITH | SIGRID
NESTOPOULOS | MATTHEW | APOSTOLOS
NEUHAUS | RUTH | ELISABETH
NEUHAUS | WALTER
NG | NICHOLAS
NG | NATHALIE
NG | NATHALIE
NGUYEN | THANH | VAN THI
NICHOLS | ALISON | PATRICIA
NICHOLS | JAMES | ROBERT
NICHOLSON | ALASDAIR | W
NICHOLSON | MEGAN | JANE
NICKEL | TOBIAS
NIELSEN | PHOEBE | ANNE
NIEMINEN | JOOEL | KALEVI
NISHIYAMA | HAYATO | AARON
NOBLE | SAMANTHA | JULIE
NOESKE | JONAS | DANIEL
NOMURA | YUKO
NONOYAMA | YOSHINOBU
NONOYAMA | TAKAKO
NORTON | ANNE-LUCIE
NOUR | KARIM | TAREK
NOZAKI | TAKAKO
NUFER | NICOLE | SUSAN IRMGARD
NUGTEREN | LYDIA | PEARL
NUSPL | PETER | P
NXUMALO | FIKILE
OAK MYALL | PATRICIA | ANN
O'CONNELL | LISA | KARINE
OCONNOR | GRAEME | DAVID
ODFJELL | MONICA | SOLUM
ODONE | ERIC | LEONEL
ODWYER | MIRIAM | JACINTA
OGILVY | BRUCE | MARK PATRICK
OGUMA | MASASHI
OIE | JUN
OKAI | TAEKO
OKAI | TOSHIYUKI
OKASHIRO | CHITOSE
OKUDA | MASUSHI
OLIVER | WARWICH | GEORGE
OLLENBERGER | SHANE | DOUGLAS
OLVERA | NICOLAS | FRANCISCO
O'MAHONY | KARL | LIAM
O'NEILL | LAURA
ONO | TAKAYUKI
OPIE | DAVID | JOHN
ORABONA | FRANCESCO
O'REILLY | STEPHEN | GERARD
ORENSTEIN | LEILA | NAJBERG
ORIORDAN | RYAN | JEREMIAH
ORTA MORRAL | SANDRA
ORTEGA | ELIZABETH
OSBORNE | TERI | LYN
OSBORNE | MINNIE | ELIZABETH MARY LILIAN
O'SHAUGHNESSY | STEPHEN | MARTIN
O'SULLIVAN | PAUL | EAMON
OTSUKA HALLMAN | YASUE
OWENS | CHRISTOPHER | MARTIN
OWENS | JOYCE | RUTH
OWENS | SARAH
OYAMA | ENRICO | ISAMU
PACK | SUNG | YUNE
PADILLA PEREZ | HECTOR | ALEJANDRO
PAE | ANDREW | WISDOM
PAGE | ALICE | BARBARA HEATHER
PAK | SONG | TAE
PAKULIS | ANDREW | JOHN
PALMQUIST | CHARLES | HALVARD
PAN | FENG
PARDUE | STEPHANIE
PARIKH | ROHAN | APURVA
PARK | JISUK
PARKER | JUDITH | SYME
PARKER | KATHERINE | LINNET
PARKER | LAURIE | A
PARKER | AMY | J
PARSONS | JAMES | BRYAN
PARTIN | ANGELA | LOUISE
PARUCHURI | PRAVEEN
PASCHER | FRANZ
PASKOWSKI | BRIAN | THOMAS
PATEL | VASHISTHA | N
PATRI | PALLAVI
PATRICK | JEFEREY | CLAYTON
PAUL | JOSHUA | SCOTT
PAULS | THOMAS | LAWRENCE
PAWLIK | KARIN | AGNES
PAWLIK | HANS | MICHAEL
PAYNE | EMMA | LUCY
PEARSON | JUSTIN | MATTHEW
PEARSON | DALE | BRIAN
PEDERSEN | RUNE | MICHAEL NORUP
PEDERSON | KEIKO | TOSHIMA
PELICHET | BARBARA | DOROTHEE
PELZIG | JACK
PEN | CHIH | HUI
PENG | ZHONG
PENNINGS | MARLOES | HENRIKE
PEPINGCO | MICHELLE | DANAE
PEREIRA DA CONCEICAO | CHRISTOPHE
PEREZ | STEVEN | FRANCIS
PERRIARD | SIMON | NICOLAS
PERROTTA | JOANY | JOSEFINA
PERRY | RENE | CLAUDETTE
PERRY | ANDREW | MICHAEL
PERSONS | ALEXIA | KAARINA
PETERANDERL | THOMAS | KLAUS DIETER
PETERS | TRISTAN | EDWARD
PETERS | STEPHEN | RALPH
PETERSON | RICHARD | LYLE
PETRUCCI | LAURIE | JANE
PETRUCCI | MARCELLO |
PETTEE | JULIA | ANNE
PETTY | JOBI | LYNN
PEUKERT | FELIX | TINHAN
PHILIP | MARTIN | J
PHILIPS | MENAKA | M
PHILLIPS | SAYOKO
PHILLIPS | ROBIN
PHUA | HWAN | KHOON
PICKARD | DAMON | LEE
PIEBENGA | BOYD | YELMER
PIEL | BARBARA | LYNN
PIETH | PETER | ARTHUR
PINCHBECK | OLIVER | JAMES HUNTER
PINE | DAVID
PINTO CORAZZARI | DANIEL
PIONE | RICHARD | DAVID
PITT | DONNA | L
PITTELLA DE SOUZA LEITE | CARLOS | ANTONIO
PLOMIN | JOSEPH | ROBERT
POEHLKER | MARA | HELENA
POLLACK | JACOB | NATHANIEL
POLLARD | MICHELANN | JENSSEN
POLLARD | MATTHEW | ALAN
POPP | LENA | LUISE
PORCINO | ANN | THERESE
POSTACILAR | AHMET | HAKAN
POTHIER | NANE | CARINA
POTSKOWSKI | BRIAN | DOMINIC
POULETT | GRAHAM | JOHN
POUNTEY | MIRANDA | MARY
POWELL | OLIVER | JAMES
POYNOR | NIKKI | MOMOKO
PRECIOUS | TERESA | NORA
PREISIG | SIMON
PREVOST | MAYUMI | UEDA
PRIETO | ROSE | MAYO
PRIHAR | JANET | H
PRIOR | STEPHEN | JOHN
QIAN | STEVEN | S
QUINOY | JOSE
RAINA | JYOTI
RAINES | JOHN | DALLAS
RAJAHALME | MAARIT
RAMAKRISHNAN | NARAYANAN
RAMOS | MARGARET | ANN
RANCOURT | YVETTE | GERMAINE
RAO | YI
RASMUSSEN | HELENE | LOUISE
RATHE | SUSAN | CORINNA
RATHLE | NICHOLAS | PAUL
RAYMENANTS | JOREN
RAYNER | ANDREW | PIERS
REGUEIRO | AMY | HORVATH
REICHLIN | DANIELLE
REID | DEBORAH | MARIE
REIMER | MURRAY | BRUCE
REINHOLD | MIYOKO | KIMURO
REINHOLD | STEPHAN
REMTULA | MALIHA
RENFROE | DAVID | SEAN
RHODES | ANNELIESE | MARY SUSAN
RIBEIRO | SUSAN | ANNE
RICHARDS | NICHOLAS
RICHARDS | SAMUEL | DODD
RIDLEY | JANE | MARGARET
RIDLEY | JONATHAN | MELVILLE
RIEDI | STEVEN
RIEDWEG | RYA
RIENDEAU | BERTRAND
RIETSCHLIN | DONNA | MARIE
RIGAUX | FABRICE | STEPHAN
RIMINGTON | REBECCA | MARY
RISHANI | MAZEN | KHALED
RITTER | BOBBY | STEVEN
ROBARCHEK | YUMI | N
ROBBINS | CAROLINE | ELIZABETH
ROBERT | MIA | ALEXANDRA
ROBERTSON | KEVIN | JAMES
ROBERTSON | GILLIAN
ROBINDORE | FINNEGAN | SAXBY
ROBINSON | AMY | LYNN
ROBINSON | JENNIFER | MARY
ROBINSON | KIRSTEN | M
ROCHELEAU | ROBERT | EDWARD
RODRIGUEZ | PHILIPPE | DANIEL
RODRIGUEZ HERNANDEZ | ANGEL | FRANCISCO
ROESCH | NATALIE | IRMA ROSA
ROESSLER | RHEA | MARLENE
ROETER | ESTHER | DANIELLE
ROGERS | KAZUKO | YOSHIDA
ROGGERONI CURO | ANA
ROLFE | CHRISTOPHER | CHARLES
ROLFS | CHADWICK | MICHAEL
ROLLAND | JACQUES | ROBERT
ROLLAND | VIVIAN | JOYCE
ROMAGNOLI | LEOPOLDO
ROMANOW | CORA | ANNE
ROMMERTS | KAY | JAGATH
ROO | GYONGSOO
ROOSENBRAND | ALEXIS | REGINA
ROPP | EVAN | D
ROPP | LEON | ELDON
RORKE | MARY | KATHRYN
ROSE | JODI | NICOLE
ROSE | MICHAEL | J
ROSEN | MIKAEL | ERIK
ROSENKRANZ | SANDRA | LEE
ROSTRUP | DANIEL
ROVEDO | CLARA | OFELIA
ROWCLIFFE | DAVID | JOHN
ROWE | CAROLYN | HARKONNEN
ROWE | ARTHUR | FRANCIS
ROY | DAVID | HAROLD
ROYER | ROLAND | JEAN PAUL
ROYER | AGNES | CLAUDINE
RUBER | HANNA | ARAI
RUBERTO | AARON | JEDEDIAH
RUBINSTEIN | RONNA
RUDD | ANTHONY | JOHN
RUEGG | DENICE | ALANE
RUETHI | JULIAN | SEAN
RUETHI | TIMOTHY | ALAN
RUGGIERI | LEON | RIVERA
RUIZ | GERARDO
RULE | SHEILA | ANN
RUSSELL | REBECCA | ANNE
RUTHERFORD | REBECCA | RYMER
RYALLS | MIRIAM | MEE REE
RYAN | TARA | HURLEY
RYAN | NEIL | ANTHONY
RYDER | KERRI | PING
SABLAN | FRANCESCA | KRISTINA
SACKIN | DANIEL | HENRY
SADINSKY | NOEL | LYNNE
SAGURTON | ROBERT | MICHAEL
SAIDI | IBRAHIM
SAITO | KAZUO
SAITO | SHIHO
SAJO | MARI
SALE | JUDY | JEANNE
SALETE DE VARAS | CRISTINA | MARINA SILVIA
SAMMAN | JOSEPH
SAMSON | DAVID | BERNARD
SANATINIA | LADAN
SANCHEZ PATZY DE FROMHERZ | CLAUDIA | VERONICA
SANDER | EVELYN | MARGARETHE
SANDIE | SOPHIE | ELIZABETH
SANDLER | BENJAMIN | JOSEPH
SANDOVAL-RASCHER | KILIAN | MARTIN
SANTO | KATASHI
SATO | SHIGERU
SATO | MAIKO
SAUL | ALEXANDRA | LUCY ANNE
SAUNDERS | PER CHRISTIAN | HARALD
SAUTIN | NICHOLAS | J W
SAVAGE | ROBERT | ALAN
SAVAGE | NANCY | ANNE
SAVAGE | JUSTIN | ALEXANDER
SAVARIN | CARINE
SAWADA | SAYOKO
SAYER | ANNA
SCHACHTER | MICHAEL | ELI
SCHALLER-FORRER | CLAUDIA | ESTHER
SCHENKER | EDGAR | MATHIAS
SCHENSTROM | MICHAEL
SCHILDHAUER | ERICH | JACOB
SCHIPHOF | AXEL | PAUL
SCHLESINGER | ALEXIS | LEE
SCHLIENZ | JULIE | LOUISE
SCHMAH | CAMILLE | MARISSA
SCHMIDT | MANFRED
SCHMIDT | JULIANE
SCHMIDT | ELLEN | DINWIDDIE
SCHNEGG | KEVIN | JOEL
SCHNEIDER | FRAN | UDO
SCHOCH | MANUEL
SCHOENHOLZER | YVONNE | D
SCHRANK | ANNA | LOUISE
SCHUBEL | VASILY | GREGORY
SCHUFT | VICTOR
SCHUITEMAN | MARY | JACQUELINE
SCHULTHESS | CHRISTINE | COLETTE-COOKSON
SCHULZ | YVAN | PIERRE
SCHUWEY | CHRISTOPHE | ALEXIS
SCHWAB | WILLIAM | ANSEN SUNDE
SCHWAEBE | NICOLE | HELEN
SCHWAERTZEL | DIRK | MAX
SCHWARTZ | TOBEY | D
SCHWARZ | NATALIE
SCHWEINSBERG | MAXI | LOUISIANA
SCOTT | YOKO | K
SCOTT | KATHERINE | SARAH
SCOTT | DAVID | MAC ANDREW
SCOTT | THOMAS | XAVIER
SCOTTEN | TEAH | NICOLE
SCRIMSHAW | CHLOE | CAROLINE
SEBAG | RAYMOND | J
SEBASTIAN | JULIAN | JOACHIM
SEDGMEN | RAMONA | FERN
SEELEY | FIONA | JAYNE
SEELEY | NICOLAS | PAUL
SEELEY | LUKE | EDGAR
SEGAL | DAVID
SEGMULLER | MARKUS | GOTTFRIED
SEKKER | BRANDON | LEE
SELKER | MARLENE | GISELA
SEMMLER | KAREN | HILDEGARDE
SENESI | MILAN
SENG | GUIDO
SENG | SHAY | PING
SEPULVEDA | CARMEN | GLORIA
SEREX | ALAIN | OLIVIER
SESHADRI | LAKSHMI
SESHADRI | SEKHER
SETH | CHRISTOHER | JEREMY
SHADE | LESLIE | REGAN
SHAHDOUSTI | SAGHAR
SHALLAL | ALI
SHALLAL | RAMSEY
SHANAHAN | LILLY
SHANK | MONICA | JOY
SHANK | MARVIN | JAMES
SHANNON | ELIZABETH | ANN
SHANNONHOUSE | HUNTER
SHARP | CATHY | ADELLE
SHAW | FRANCISKA | KALANI WEN-HUE
SHEARING | ANTHONY | DENNING
SHEHADEH | HALIM | ISAM
SHEIKH | HAMZA | ABUDAAD
SHEMIRANI | MANDA
SHEN | HAIYAN
SHENG | LI
SHEPHERD | BRIAN | STUART
SHERKIN | RONALD | KEVIN
SHI | BING
SHIBUYA | KYOKO
SHIKI | MEGUMI
SHIMAZAKI | NOBUAKI
SHIMAZAKI | MARI
SHINE | ASHLEY | ELIZABETH
SHIOTA | CHIYO
SHIOTA | MASAKAZU
SHIVRAIN | VINOD | KUMAR
SHIVRAIN | SONIA | VINOD
SHOUCAIR | ALEXANDER | NICHOLAS
SHUM | ELTON
SHUMATE | MICHAEL | REED
SHUMKA | MARK | ANDREW
SIERRA | MARIE | ANN
SILLS | LAUREL | JO
SILVER | SAMANTHA | DAWN
SIMEC | PETER
SIMON | MARY | MONIKA
SIMPSON | GEOFFREY | JAMES
SIMPSON | JESSICA | DEBORAH
SINDRAM | MARGARET | KELLY
SINGER | ACHIYA
SINGH | JACK | JATINDER
SKLOPIC | DEJAN
SLOVITT | RICK | GARY
SMALLEY | JOSEPH | ALEXANDER
SMIRNYAGINA | EKATERINA | V
SMITH | ANNE | LOUISE
SMITH | JUSTIN | TRENT
SMITH | JANELLE | ANNE
SMITH | GRACE | SUZANNE
SMITH | SALLY | LOIS
SMITH | LAUREN | MICHELLE
SMYTH | GREYE | CARROLL
SNOW | KEVIN | MICHAEL
SOBOLEWSKI | MARIO
SOENO | YASUKO
SOHI | SATINDER | JIT SINGH
SOMMER | NATHALIE | CHRISTIANE
SONG | NATALIE
SORG | CATHERINE | ELIZABETH
SOUTHAL | COLIN | HUGH
SPAGNOLI | JESSICA | JENNIFER
SPAGNOLI | JUSTIN | JULIANO
SPEELMAN | KATLEEN
SPENCER | ETHAN | MICHAEL
SPIELMANN | EVA | M
SPURR | JAMES | CHRISTOPHER
SRINIVASAN | NICOLE | CLAIRE
ST AMAND | CHRISTIANE | MARIE LUCIE
ST CLAIR | JACQUELINE | MARY
STACK | MICHAEL | GERARD
STADELMANN | PHILIP | DANIEL
STANDARD | BLAKE | ANDREW
STANTON | MICHAEL | LEE
STAPLER | JENNIFER | LYNN
STARKE | NIKOLAS | HENK
STARRATT | DEBRA | CAROL
STARRATT | DAVID | EMERY
STEADMAN | MICHAEL | ALEX PETER
STEEGE | ELIZABETH | LOWERY
STEELAND | ALEXANDRA | LOUISE
STEINBERG | BENJAMIN | ETHAN
STENBERG | LISE-LOTTE | MAIJA
STENZEL | SHEILA | RAE
STEPHENS | DAVID | EARL
STERENBORG | FIIMA | JAMILA LOUA
STERICKER | JOCELYN
STERLING | RENEE | W
STEVENS | SIMON | LAURENCE
STEWART | COLIN | LAWSON
STEWART | MARGARET | ANNE
STEWART | ALLAN | CAREY
ST-GERMAIN | CAROLINE | HOWELL
STIEGLER | JOHAN | LENNART
STIER | JOEL
STIER | VERONA
STONE | CHRISTINA | ROSEMARIE FORBES
STONE | KATHERINE | HELEN
STORM DEVOLZ | KARINE | LYDIA DOROTHEE
STOVALL | STEN | TORBEN
STRADA | SILVIO
STRIDE | ANDREW | JONATHAN
STRINGER | SONIA | DAWN
STROBEL | MAGNUS | EMANUEL
STROM | ERIC | BRADFORD
STUART | DEREK | DUNCAN
STUCKI | PAUL
STURMAN | MARK | CHARLES
STYPULKOWSKI | ARTUR
SU | CHANG | YU
SUBRAMANIAN | NITHYA
SULTAN | FARAH | MUHANAD
SUN | XIAOHUI
SUN | GUIZHU
SUN | TIANHAO
SUN | ZHAOLIN
SUN | HUI
SUTER | MARTIN | DAVID
SUTER | DEBORA | LEE
SUTER | CARINA | JESSICA
SUTTON | LISA | CAROLINE
SUURA | YOSHIKO
SUZUKI | HIDEAKI
SWANSON | CATHERINE | ANN
SWARTZ | AVERY | ARMSTON
SWEENEY | THOMAS | GREGORY
SWIFT | SALLY | ANNE
SYMONS | JESSICA | HELEN
SYRING | MARTINA | ELISABETH
SZABO | VERONIKA
SZALONTAY | PETER
SZETO | JENNY
TABAK | SHOLOM | DOV
TAGGART | WILLIAM | ROBERT
TAGUCHI | MIYAKO
TAHARA BIVENS | HITOMI
TAIT-STYLES | EVAN | ANDREW
TAKAGI | KENICHI
TAKAGI | MASUMI
TAKAHASHI | HISAKO
TAKAHASHI | YUJI
TAKASAWA | KAORI
TAKASAWA | TATSUO
TAKEUCHI | HIROO
TAKIGAMI | NAOMI
TAKIGUCHI | MIEKO
TAKIGUCHI | SHOJI
TAKIZAWA | RIKU
TAM | MATTHIAS | LARRY
TAMAKI | MARY | CATHERINE
TAMURA | TETSUHIRO
TAMURA | YOSHIKO
TAN | ZACHARY | ZE KANG
TAN ANG | VANESSA | BIANCA
TANAKA | HIDENORI
TANAKA | TATSUO
TANAKA | YOKO
TANAKA | YASUJI
TANEMURA | SHIGEKI
TANEMURA | YASUE
TANNER | ELIZABETH | MARY DOROTHY
TANTARN | KIM | LEANDRA
TANZAWA | HAJIME
TANZAWA | KAHO
TARDIFF | JOHN | STANTON
TARDITO | FRANCESCA | SOFIA ARAS
TASHIRO | YOKO
TASHIRO | YOSHIO
TAVANO | ALESSIO
TAYLOR | SARAH | ELIZABETH BROOKS
TAYLOR | ROBERT | JAMES
TAYLOR | GRIZELDA | RUTH
TAYLOR | AUDE | AURELIA
TAYLOR | SHAUN | JUSTIN
TAYLOR | ANN | DEBORAH
TAYLOR | VALERIE | JANICE
TEEUWSEN | PETER | CHRISTIAN
TEICKE | MARIA VICTORIA
TEICKE | NICKLAS | BENEDIKT DORIAN
TEODOROVIC | LJUBICA
TEP | VINCENT
TEP | KARRONA
TERNES | AINSLEY | LAUREN
TERPSTRA | JUDITH | ANN KATRINA
TETLEY | REBECCA | LYNN
THAKUR | NEETA
THALINGER | CHRISTIAN | FRANZ
THEORET | MARIE | JOSEE
THIAN | ZI HE
THIEME | JUERGEN
THIESSEN | BROOK | MACKENZIE
THOMAS | KATHERINE | INGRID
THOMPSON | JANET
THOMPSON | PETER | JOHN
THOMPSON | BENJAMIN | JOHN P
TILBERG | NATALIE | MARIA SALOME
TIMMERMANN | AXEL
TINTINALLI | FRANK | ADOLPHE
TOBIN | DANIEL | JAMES
TOKASHIKI | KEN
TOMAN | SUSAN
TOMITA | HIDEO
TOMLINSON | STEPHEN | DAVID
TOMOMATSU | HIROYUKI
TOMPKINS | KARL | HENRY
TONG | CLARA | CARMEN
TORLINSKA | LUCYNA
TORRES | MARIA
TORRES CORREA | GIANNI
TORRIE | TYLER | ALEXANDER
TOSHNEY | CAROLYN | HELEN
TOUHEY | CAROLYN | WEST-PRICE
TRAKRU | SUNIL
TRASK | MURRAY | NORMAN
TRASK | MAVIS | ELIZABETH
TRATNER | NIGEL
TRENCH | TIMOTHY | RODERICK HAMILTON
TRENEY | ALAIN | CLAUDE
TRENT | JOHN | OLAF
TRICARICO | PASQUALE
TRIMBLE | LESLIE | ANN
TROTT | CHELSEA | D
TROTTIER | SUZANNE
TROYER | MARK | PATRICK
TRUDGIAN | DAVID | CLAUDE
TRUNG | MIANH
TSAI | JASON | R
TSE | HO | KEUNG
TSENG | YINTZU | CAROLYN
TSUCHIKAWA | RISA
TSUI | RAY | CHUNG
TSUJIMOTO | MIYAKO
TU | CHAO | WEI
TURNARETSCHER | SYLVIA | GAIL
TURNBULL | NICOLAS | GUY
TURNBULL | ANNABELLE | LEIGH
TURNER | SHARON | ANN
TURNER | JAMES | KENNETH
TURNHAM | JAMES | RICHARD
TURNURE | GEORGE | LAWRENCE
ULRIKSSON | BENGT | ANDERS
UMBRICO | LINDA | MARIE
UNDERHILL | PETER | ARKENBURGH
URABE | HAYATO
URBAN | ROMINA | CLAUDIA
UROWITZ | JUDITH | BRINA
USUI | REI
USUI | DAI
UVIMOLCHAI | CHONNAPORN | DEBBIE
UZUNOV | VESKA | KOSTADINOVA
VACHON | MARY | LOUISE
VACHON | BRUCE | RAYMOND
VADNAIS | MONIQUE | YVETTE
VAN | VANESSA | C
VAN DER LEE | REINIERUS | H
VAN DER WOLF | EVELYN | ELEANOR
VAN DER ZEE | JULIUS | T
VAN DOMSELAAR | TOM | JASPER
VAN DYCK | BABETTE | ELAINE VERONIQUE
VAN OYEN | STEFAN | HUGO
VAN ROSSUM | MENNO | DANIEL
VAN SAARLOOS | PAULIAN | CORNELIEN
VAN ZWET | JEANNETTE | M
VANCURA | PATRICK | JOSEF
VANDEBROEK | INA | EMMA G
VELA | SHEILA | RAE
VELISSAROPOULOS | ARIANNE
VERLEDENS | MARTINE | MICHELE THERESE
VICHOT | DOMINIQUE | CLAUDE
VIDAL | MYRIAM
VIGNALE | VINCENT | E
VIGON | BRAD | PAUL
VINCELI-JOMA | ADRIANA | KATERINA
VINCELLI | CARLA | LUCIA
VINTI GLAESER | LAURA
VOGELER | SUZANNA | JULIET
VON MOOS | NADIA | RACHEL
VONIC | ANKA
WADA | JUNKO
WADE | JEFFREY | PAUL
WAECHTER | MARGARET | CLARE
WALDER | JAMES | NICHOLAS HAMPTON
WALKER | SELENA | NADIA
WALL | DIANE
WALL | PHILIP | MALCOLM
WALLSMITH | DEBORAH | LYNNE
WALTER | MELISSA | EMERSON
WALTERS | WALLACE | WARREN
WANG | HSIAO | WEI
WANG | KUI
WANG | JEE | SHIANG
WANG | WENSHOU
WARD | BRODIE | THOMAS
WARMERDAM | VINCENT | DAMIAN
WARNANDER | CLAES | ROBERT
WARREN | ROBERT | PAUL
WARRIER | HRIDYA
WARRIER | AJAY | HARIKUMAR
WATANABE | FUJIO
WATANABE | KAZUHIDE
WATANABE | YOSHIE
WATANABE | ERIKO
WATANABE | MAKIKO
WATERS | CAMILLA | JEAN
WATSON | KEVIN | ROBERT
WATT | JUDY | BIK-WOON
WATT | KELSEY | ALEXANDRA
WAYLETT | PATRICK | GARRY
WEBB | TIMOTHY | ALAN
WEBBER | JOHN | LAWSON
WEBER | LUKE | ANDREW
WEBER | ERIC | CARL
WEBER | MARTIN | PETER
WEBER | KENNETH | ROMAN
WEE | JIAN | MING COLIN
WEI | LIPING
WEI | JENNY
WEINGART | SARAH | GAYLE
WEINSCHROD | PHILIPP
WELCH-HAMMIAL | GENEVIEVE | ALOKA
WELLS | DAVID | WAYNE
WELLS | MICHAEL | PETER
WELSH | CHRISTINE | M
WELSH | FREDERICK | CANNON
WENG | HONGLI
WENTZEL | CAROLYN | ANN
WEREMY | NICOLE | LOREE
WERENKA | JUDITH | ANNE
WERNER-KING | JANEEN | ANNE
WERTHEYM | MONIQUE | ALICE SIMONETTA
WEST | ROBIN | ELIZABETH
WESTER | SUSAN | BETH
WESTERVELT | CHRISTINA
WESTLAND | JOHANNA | LISA
WESTLAND | BENJAMIN | ALEX
WESTLAND | ALICIA | JADE
WESTLAND | JASON | BRENT
WESTPHAL | CAROLYN | ELIZABETH
WESTPHAL | HELENA | DOROTHY MADELINE
WESTWOOD | JOYCE | LYNN
WHANG | TAEHEE
WHEATLEY | CLAIRE | MARGARET
WHINCOP | DANIEL | NOEL
WHINCOP | FIONA
WHIPP | KATHLEEN | JANE
WHITBY | RACHEL | CRISTINA
WHITE | CLAY | THOMAS
WHITE | ARIEL | BLITHE MAXWELL
WHITEBREAD | CHRISTINE
WHITEING | NEIL | PETER KRAUSE
WHITFORD | IAIN | J
WHITTINGHAM | JESSICA | NORA
WIBBERLEY | BENJAMIN | GUY
WIDMER | MARCO | JAKOB
WIDMER | LAURA | ISABEL
WIDOWITZ | ELMAR
WIDOWITZ | SANDRA
WIEBE | PATRICIA | KAREN
WIENECKE | GERT
WIJCHGEL | WIEGER | NANCO
WILDER | EMMA | LOUISE
WILKE | ANGELA | CHRISTINE
WILKIE | CARLA | ANN
WILLAN | GERARD | L
WILLIAMS | JUSTINE | MILLICENT
WILLIAMS | MARIE
WILLIAMS | ANDREW | CARL
WILLIAMS | MIRIAM | ZEHAVA
WILLIAMSON | MARLENE | EDITH
WILLIS | HAZEL
WILSDON | JOSHUA | DAVID
WILSON | IAIN | AULD
WILSON | REBECCA | RUTH
WILSON | JONATHAN
WINTON | GRANT | STUART
WIRTH | THOMAS
WIWCHAR | MICHELE | ANN
WOLFRAM | JOY | EMELIE VALENTINA
WOLF-UNGAR | GISELLE
WOLKEN | ADRIAN | GEORGE
WOLSEY | TROY | DANIEL JOHN STEWART
WOLTER | TOBIAS
WONG | PATRICIA | ANN
WONG | KING | CHUNG
WONG | JUSTIN | KALEUNG
WOOD | JANET | LYNN
WOODCROFT | DIANE | AMOS
WOODLEY | JAMES | ARTHUR
WOODS | ROBIN | JAMES
WOODY | CORNELIA | ANNA
WOOMERT | JOHN | BARTON
WREN | ISABELLA | GRACE
WRIGHT | MARY | ANN
WRIGHT | MAXIMILIAN | JOHN
WRIGHT | VICTORIA | EFTYCHIA
WU | WEI | LUNG SAM
WU | MENGDI
WU | XUFEI
WU | JULIANA | L
WUETHRICH KELLERHALS | ELISABETH
WYER | MARLA | VERNE
XIANG | SOPHIA | FEI FEI
XIE | TAO
XU | LIN
YAGUCHI | AYAKO
YAGUCHI | TETSUYA
YAJIMA | MARI
YAMAGATA | AYAKA
YAMAGUCHI | YOSHINORI
YAMAMOTO | YOSHIKO
YAMANOUCHI | CHISE | MIGITAKA
YAMASHITA | MIKA
YAMAZAKI | JIRO
YAMAZAKI | MITSUHIRO
YAN | JUN
YAN | XIANGUANG
YANG | JEONG | YUN
YANG | LIU
YANG | JIONG
YANG | HANN
YANZUK | CHRISTOPHER | BRYAN
YAO | HONGYU
YAO | LIPING | PING
YASUDA | RUMIKO | O
YASUDA | HIROMARO
YATES | SHEILA | ANN
YAZIJI | MICHAEL
YEO | HENRY | KIEN-HUNG
YI | LI
YIN | XIAOWEI
YOKOSE | TOMOAKI
YOKOTA | MARI
YOO | DAHEY
YOO | HEE | TAE
YOSEF | DANNY | BEN
YOSHIDA | MAKOTO
YOSHIZUMI | TETSUO
YOUNG | DOUGLAS
YU | YING
YUEN | KAREN | KA YEN
ZAFEIROPOULOS | KONSTANTINOS
ZANOLLA | STEWART | ANGELO
ZARKA | HISHAM | SAMI
ZAU | LILLIAN | Y
ZAUGG | MAXWELL | KAY
ZECCHIN | ANDREA
ZENG | SHUXIANG
ZENSIUS | KIMBERLY | ANNE
ZHANG | PING
ZHANG | YAN
ZHANG | BIN
ZHANG | WEI
ZHELEV | YORDAN | TRIFONOV
ZHELEVA | MARIYA | DIMITROVA
ZHENG | SHAOQUN
ZHENG | YONGMING
ZHU | XIAOMING
ZIMMERMAN | JULIE | RENEE
ZIMMERMANN | ALLYSON | RENEE
ZIOTEK BADDOUR | WANDA | MARIE
ZIPP | DANIEL | FRANCIS
ZOLFAGHARI | FARZAD
ZORICH | MIROSLAV
ZUEGER | PHILIP
ZUMBRUNNEN | DANIEL | SHAW
ZWART | ANNA | MARGARET

Dated: October 24, 2024.
Steven B. Levine,
Manager Team 1940, CSDC—Compliance Support, Development & Communications.

[FR Doc. 2024-25123 Filed 10-28-24; 8:45 am]

BILLING CODE 4830-01-P